DEPARTMENT OF COMMERCE

Foreign-Trade Zones Board

[Order No. 1617]

Approval for Expanded Manufacturing Authority; Foreign-Trade Subzone 222A; Hyundai Motor Manufacturing Alabama, LLC (Motor Vehicles and Engines); Montgomery, AL

Pursuant to its authority under the Foreign-Trade Zones Act of June 18, 1934, as amended (19 U.S.C. 81a-81u), the Foreign-Trade Zones Board (the Board) adopts the following Order:

Whereas, the Montgomery Area Chamber of Commerce, grantee of Foreign-Trade Zone 222, has requested authority on behalf of Hyundai Motor Manufacturing Alabama, LLC (HMMA), to expand the scope of manufacturing authority (additional engine capacity) conducted under zone procedures within Subzone 222A at the HMMA facility in Montgomery, Alabama (FTZ Docket 34-2008, filed 5-21-2008);

Whereas, notice inviting public comment has been given in the Federal Register (73 FR 31432, 6-2-2008) and the application has been processed pursuant to the FTZ Act and the Board's regulations; and,

Whereas, the Board adopts the findings and recommendation of the examiner's report, and finds that the requirements of the FTZ Act and Board's regulations are satisfied, and that the proposal is in the public interest;

Now, therefore, the Board hereby orders:

The application to expand the scope of manufacturing authority under zone procedures within Subzone 222A, as described in the application and Federal Register notice, is approved, subject to the FTZ Act and the Board's regulations, including Section 400.28.

Signed at Washington, DC, this 24th day of April 2009.
Ronald K. Lorentzen,
Acting Assistant Secretary of Commerce for Import Administration, Alternate Chairman, Foreign-Trade Zones Board.
Attest:
Andrew McGilvray,
Executive Secretary.

[FR Doc. E9-10779 Filed 5-7-09; 8:45 am]

BILLING CODE 3510-DS-P